DEPARTMENT OF TRANSPORTATION

Federal Highway Administration

[Docket No. FHWA-2025-0103]

Agency Information Collection Activities: Request for Comments for a New Information Collection

AGENCY: Federal Highway Administration (FHWA), U.S. Department of Transportation (DOT).

ACTION: Notice and request for comments.

SUMMARY: The FHWA has forwarded the information collection request described in this notice to the Office of Management and Budget (OMB) to approve a new information collection. We are required to publish this notice in the Federal Register by the Paperwork Reduction Act of 1995.

DATES: Please submit comments by September 15, 2025.

ADDRESSES: You may submit comments identified by DOT Docket ID Number 0103 by any of the following methods:

Website: For access to the docket to read background documents or comments received go to the Federal eRulemaking Portal: http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Derek Constable, (202) 366-4606, Office of Bridges and Structures, Federal Highway Administration, Department of Transportation, 1200 New Jersey Avenue Southeast, Washington, DC 20590. Office hours are from 7 a.m. to 4 p.m., Monday through Friday, except Federal holidays.

SUPPLEMENTARY INFORMATION: FHWA published a Federal Register Notice with a 60-day public comment period on this information collection on October 25, 2024, at [89 FR 85282]. There were no comments received.

Title: FY24 and FY25 Competitive Highway Bridge Program (CHBP).

Background: The Consolidated Appropriations Act, 2024, Public Law 118-42, Section 126, March 9, 2024, and the Full-Year Continuing Appropriations and Extensions Act of 2025, Public Law 119-4, each provide up to $250 million (up to $500 million total) to be awarded by the FHWA for a Competitive Highway Bridge Program.

Eligible applicants are States that have a population density of less than 115 individuals per square mile and less than 26% of total bridges classified as in good condition; or greater than or equal to 5.2% of total bridges classified in poor condition. States meeting the population criteria and that have greater than 14% of total bridges classified as in poor condition are eligible to receive no less than $32,500,000. The funds shall be used for highway bridge replacement or rehabilitation projects on public roads that demonstrate cost savings by bundling multiple highway bridge projects. Population density is calculated based on the latest available data from the decennial census conducted under section 14(a) of title 13, United States Code. Percentages of bridge counts are based on the National Bridge Inventory as of June 2023. [Consolidated Appropriations Act, 2024, Public Law 118-42, Section 126, March 9, 2024].

Population density is calculated based on the latest available data on March 9, 2024, the date which the Consolidated Appropriations Act, 2024, became law. Resident population density is used. The percentages are based on number of bridges. Fiscal year 2024 funds shall be obligated by September 30, 2027. Fiscal year 2025 funds shall be obligated by September 30, 2028.

Based on these requirements, eligible applicants are the State Departments of Transportation (State DOTs) of Alaska, Arkansas, Iowa, Kansas, Kentucky, Louisiana, Maine, Mississippi, Missouri, Montana, Nebraska, North Dakota, Oklahoma, South Dakota, Utah, West Virginia, Wisconsin, and Wyoming. State DOTs that are eligible to receive no less than $32,500,000 include Iowa, Maine, South Dakota, and West Virginia.

Awards will be made only to a State DOT. Applications by non-State DOT entities must be submitted by the State DOT in which they are located.

Each application will require the following project narrative:

• A discussion and supporting information that describes the project description, location, and project parties,

• a discussion and supporting information on proposed project funding including the sources and availability of funds to supplement a grant award and to supplement the Federal share,

• a discussion and supporting information on how the project meets the CHBP merit criteria,

• a discussion and supporting information on project readiness and environmental status to include discussion and supporting information on technical feasibility, project schedule, status of required approvals including environmental permits and reviews, status of State, metropolitan, and local planning document approvals, and an assessment of project risks and mitigation strategies.

Each applicant selected for CHBP grant funding will be required to execute a project agreement which is a type of grant agreement for administration of funds to a State DOT in FHWA's Fiscal Management System. In the agreement, the recipient must describe the project that FHWA agreed to fund, which is the project that was described in the application or a reduced-scope version of that project. The agreement also includes project schedule milestones, a budget, and project-related goals.

Each applicant selected for CHBP grant funding (awardee) will be required to collect and report project monitoring information. This will include information on the project's performance using performance indicators supplied by FHWA that relate to CHBP goals. Performance reporting continues for several years after project construction is completed. Each awardee will submit progress and monitoring reports on a quarterly basis until completion of the project as determined by FHWA. This information will be used to monitor awardees' use of Federal funds, ensuring accountability and financial transparency.

These requirements are further detailed in the Notice of Funding Opportunity (NOFO) available on grants.gov.

This notice seeks comments on the proposed information collection, which will collect information necessary to support the evaluation of applications and selection of project awards, the funding agreement negotiation stage for awards, and project monitoring.

Respondents: Any eligible State DOT can submit as many as three applications for CHBP grant funding through the NOFO. A limit of three applications is specified in the NOFO. There are 18 eligible States. Each applicant selected for CHBP grant funding (awardee) will be required to execute a project agreement and will be required to collect and report project monitoring information.

Frequency: Annually for the duration of the program, including the application period, funding agreement process, and project monitoring.

Estimated Average Burden per Response: 100 hours per respondent per application. In addition, each awarded project is estimated to require 60 hours for negotiating and signing the funding agreement and project monitoring reporting including performance indicator and financial monitoring. FHWA estimates that project monitoring will occur for four years.

Estimated Total Annual Burden Hours: It is estimated that the respondents will complete approximately 36 applications for an estimated total of 3,600 burden hours. In addition, it is estimated that there will be 27 awarded projects for an estimated total of 1,620 additional burden hours. There are 5,220 total annual burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize, include your comments, or both, in the request for OMB's clearance of this information collection.

Authority: The Paperwork Reduction Act of 1995; 44 U.S.C. chapter 35, as amended; and 49 CFR 1.48.

Issued on: August 12, 2025.
Jazmyne Lewis,
Information Collection Officer.

[FR Doc. 2025-15446 Filed 8-13-25; 8:45 am]

BILLING CODE 4910-22-P